DEPARTMENT OF STATE

[Delegation of Authority No. 370]

Authority To Promulgate Regulations Under Department of State Standardized Regulation 013

By virtue of the authority vested in the Secretary of State by the Department of State Standardized Regulations and the authorities therefore, and pursuant to the authority vested in me by Delegation of Authority No. 198, dated September 16, 1992, I hereby delegate to the Executive Director for the Bureau of Human Resources, to the extent authorized by law, the authority of the Secretary to promulgate implementing regulations pursuant to Department of State Standardized Regulation 013, and to set appropriate policies and procedures.

Notwithstanding this delegation of authority, the Secretary, the Deputy Secretary, the Deputy Secretary for Management and Resources, and the Under Secretary for Management, may at any time exercise the authority herein delegated.

This delegation of authority will be published in the Federal Register.

Dated: February 16, 2014.
Patrick F. Kennedy,
Under Secretary of State for Management.

[FR Doc. 2014-04896 Filed 3-4-14; 8:45 am]

BILLING CODE 4710-15-P